COMMISSION ON CIVIL RIGHTS

Agenda and Notice of Public Meeting of the West Virginia Advisory Committee

Notice is hereby given, pursuant to the provisions of the rules and regulations of the U.S. Commission on Civil Rights, that a meeting of the West Virginia Advisory Committee to the Commission will convene at 12:00 p.m. and adjourn at 7:00 p.m. on April 20, 2000, at the Embassy Suites Hotel, Salons A/B, 300 Court Street, Charleston, WV 25301. The Committee will hold a community forum with government and civic leaders on police-community relations and civil rights issues in Kanawha County from 12:00 p.m. to 5:45 p.m., followed by a planning session from 5:45 p.m. to 7:00 p.m.

Persons desiring additional information, or planning a presentation to the Committee, should contact Committee Chairperson Gregory T. Hinton, 304-367-4244, or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, March 20, 2000.
Carol-Lee Hurley,
Chief, Regional Programs Coordination Unit.

[FR Doc. 00-7899 Filed 3-29-00; 8:45 am]

BILLING CODE 6335-01-P